DEPARTMENT OF COMMERCE

National Oceanic and Atmospheric Administration

50 CFR Part 679

[Docket No. 991228352-0012-02; I.D. 022200D]

Fisheries of the Exclusive Economic Zone Off Alaska; Pacific Cod in Western and Central Regulatory Area in the Gulf of Alaska

AGENCY: National Marine Fisheries Service (NMFS), National Oceanic and Atmospheric Administration (NOAA), Commerce.

ACTION: Modification of a closure.

SUMMARY: NMFS is opening directed fishing for Pacific cod by catcher vessels that are non-exempt under the American Fisheries Act (AFA) in the Western and Central Regulatory Areas of the Gulf of Alaska (GOA). This action is necessary to allow non-exempt catcher vessels to participate in the Pacific cod fishery in these areas consistent with regulations implementing the AFA.

DATES: Effective 1200 hrs, Alaska local time (A.l.t.), February 23, 2000.

FOR FURTHER INFORMATION CONTACT: Andrew Smoker, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The amount of the 2000 GOA AFA catcher vessel sideboard in the Western and Central Regulatory Areas was established by the Emergency Interim Rule to Implement Major Provisions of the American Fisheries Act (65 FR 4520, January 28, 2000) as 1,945 metric tons (mt) and 1,330 mt respectively in accordance with § 679.20(c)(2)(i).

The Administrator, Alaska Region, NMFS (Regional Administrator), has established a Pacific cod directed fishing allowance of 1,745 mt, and set aside the remaining 200 mt as bycatch to support other anticipated groundfish fisheries for this component of the fishery in the Western Regulatory Area. He also has established a directed fishing allowance of 1,130 mt, and set aside the remaining 200 mt as bycatch to support other anticipated groundfish fisheries for this component of the fishery in the Central Regulatory Area. These areas of the GOA were closed to directed fishing for Pacific cod by non-exempt AFA vessels on January 21, 2000 (65 FR 4520, January 28, 2000).

NMFS has determined that as of February 18, 2000, 1,745 mt remain in the directed fishing allowance for the Western Regulatory Area and 1,130 mt remain in the directed fishing allowance for the Central Regulatory Area. Therefore, NMFS is terminating the previous closure and is opening directed fishing for Pacific cod by catcher vessels that are non-exempt under the AFA in the Western and Central Regulatory Area of the GOA.

Classification

All other closures remain in full force and effect. This action responds to the best available information recently obtained from the fishery. It must be implemented immediately in order to allow participation of catcher vessels that are non-exempt under the AFA. Providing prior notice and opportunity for public comment for this action is impracticable and contrary to the public interest. NMFS finds for good cause that the implementation of this action cannot be delayed for 30 days. Accordingly, under 5 U.S.C. 553(d), a delay in the effective date is hereby waived.

This action is required by § 679.20 and is exempt from review under E.O. 12866.

Authority: 16 U.S.C. 1801 et seq.

Dated: February 22, 2000.
Bruce C. Morehead,
Acting Director, Office of Sustainable Fisheries, National Marine Fisheries Service.

[FR Doc. 00-4597 Filed 2-23-00; 3:59 pm]

BILLING CODE 3510-22-F